DEPARTMENT OF THE INTERIOR

Geological Survey

[Docket No. USGS-2025-0015; OMB Control Number 1028-0085/Reinstatement; GX21EB00A181100]

Agency Information Collection Activities; Submission to the Office of Management and Budget for Review and Approval; National Land Remote Sensing Education, Outreach and Research Activity

AGENCY: U.S. Geological Survey, Interior.

ACTION: Notice of Information Collection; request for comment.

SUMMARY: In accordance with the Paperwork Reduction Act (PRA) of 1995, the U.S. Geological Survey (USGS, we) proposes to reinstate an information collection.

DATES: Interested persons are invited to submit comments on or before January 21, 2026.

ADDRESSES: You may submit comments by one of the following methods:

Internet: https://www.regulations.gov. Search for and submit comments on Docket No. USGS-2025-0015.

U.S. Mail: USGS, Information Collections Clearance Officer, 12201 Sunrise Valley Drive, MS 159, Reston, VA 20192.

FOR FURTHER INFORMATION CONTACT: Curtis Watts by email at cwatts@usgs.gov, or by telephone at 703-648-7819. Individuals in the United States who are deaf, deafblind, hard of hearing, or have a speech disability may dial 711 (TTY, TDD, or TeleBraille) to access telecommunications relay services. Individuals outside the United States should use the relay services offered within their country to make international calls to the point-of-contact in the United States. You may also view the information collection request (ICR) at http://www.reginfo.gov/public/do/PRAMain.

SUPPLEMENTARY INFORMATION: In accordance with the PRA of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 12, 2025 (90 FR 38796). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The National Land Remote Sensing Education, Outreach and Research Activity is an effort that involves the development of a U.S. national consortium in building the capability to receive, process and archive remotely sensed data. The purposes are to provide university and State organizations with access to data in a ready-to-use format and to expand the science of remote sensing through education, research, applications development, and outreach in areas such as water availability (or lack thereof), phenology, natural resource management and disaster analysis.

Respondents submit proposals to acquire funding for a national (U.S.) program to promote the uses of space-based land remote sensing data and technologies through education and outreach at the State and local level and through university-based and collaborative research projects. The information collected will ensure that sufficient and relevant information is available to evaluate and select a proposal for funding. A panel of USGS Core Science Systems Mission Area managers and scientists will review each proposal to evaluate the technical merit, requirements, and priorities identified in the call for proposals.

This notice concerns the collection of information that is sufficient and relevant to evaluate and select proposals for funding. We will protect information from respondents considered proprietary under the Freedom of Information Act (5 U.S.C. 552), its implementing regulations (43 CFR part 2), and 30 CFR 250.197, “Data and information to be made available to the public or for limited inspection.” Responses are voluntary. No questions of a “sensitive” nature are asked. We intend to release the project abstracts and primary investigators for awarded/funded projects only.

Title of Collection: National Land Remote Sensing Education, Outreach and Research Activity.

Office of Management and Budget Control Number: 1028-0085.

Form Number: None.

Type of Review: Reinstatement of an information collection.

Respondents/Affected Public: Public or private institutions of higher education including universities; State and local governments (including county, city township or special district governments), independent school districts, Native American Tribal governments or organizations, nonprofit organizations (with or without 501(c)(3) status).

Total Estimated Number of Annual Respondents: Approximately 5 respondents.

Total Estimated Number of Annual Responses: Approximately 5 responses or applications.

Estimated Completion Time per Response: We expect to receive approximately 5 applications per year, taking each applicant approximately 24 hours to complete, totaling 120 burden hours. We anticipate awarding one (1) grant per year. The grantee will be required to submit an interim annual progress report to the designated USGS project officer within 90 days of the end of the project period and a final report on or before 90 working days after the expiration of the agreement.

Total Estimated Number of Annual Burden Hours: 120 hours per year.

Respondent's Obligation: Required to obtain a benefit.

Frequency of Collection: Annually.

Total Estimated Annual Nonhour Burden Cost: There are no “non-hour-cost” burdens associated with this information collection.

An agency may not conduct or sponsor and a person is not required to respond to a collection of information unless it displays a currently valid OMB control number.

The authority for this action is the PRA of 1995 (44 U.S.C. 3501 et seq.).

Curtis Watts,
Intelligence Operations Specialist, USGS Core Science Systems.

[FR Doc. 2025-23512 Filed 12-19-25; 8:45 am]

BILLING CODE 4388-11-P